DEPARTMENT OF ENERGY

Federal Energy Regulatory Commission

Combined Notice of Filings

Take notice that the Commission has received the following Natural Gas Pipeline Rate and Refund Report filings:

Filings Instituting Proceedings

Docket Numbers: RP17-42-000.

Applicants: Natural Gas Pipeline Company of America.

Description: § 4(d) Rate Filing: Wells Fargo Negotiated Rate to be effective 11/1/2016.

Filed Date: 10/20/16.

Accession Number: 20161020-5105.

Comments Due: 5 p.m. ET 11/1/16.

Docket Numbers: RP17-43-000.

Applicants: Iroquois Gas Transmission System, L.P.

Description: § 4(d) Rate Filing: 10/20/16 Negotiated Rates—Trafigura Trading LLC (RTS) 7445-10 to be effective 11/1/2016.

Filed Date: 10/20/16.

Accession Number: 20161020-5114.

Comments Due: 5 p.m. ET 11/1/16.

Docket Numbers: RP17-44-000.

Applicants: Midcontinent Express Pipeline LLC.

Description: § 4(d) Rate Filing: Fuel Tracker Filing 10/21/16 to be effective 12/1/2016.

Filed Date: 10/21/16.

Accession Number: 20161021-5040.

Comments Due: 5 p.m. ET 11/2/16.

Docket Numbers: RP17-45-000.

Applicants: Iroquois Gas Transmission System, L.P.

Description: § 4(d) Rate Filing: 10/21/16 Negotiated Rates—Macquarie Energy LLC (RTS) 4090-13 to be effective 11/1/2016.

Filed Date: 10/21/16.

Accession Number: 20161021-5062.

Comments Due: 5 p.m. ET 11/2/16.

Docket Numbers: RP17-46-000.

Applicants: Iroquois Gas Transmission System, L.P.

Description: § 4(d) Rate Filing: 10/21/16 Negotiated Rates—Macquarie Energy LLC (RTS) 4090-14 to be effective 11/1/2016.

Filed Date: 10/21/16.

Accession Number: 20161021-5063.

Comments Due: 5 p.m. ET 11/2/16.

Docket Numbers: RP17-47-000.

Applicants: Algonquin Gas Transmission, LLC.

Description: § 4(d) Rate Filing: Negotiated Rates—Cargill contract 510950 to be effective 11/1/2016.

Filed Date: 10/21/16.

Accession Number: 20161021-5065.

Comments Due: 5 p.m. ET 11/2/16.

Docket Numbers: RP17-48-000.

Applicants: Iroquois Gas Transmission System, L.P.

Description: § 4(d) Rate Filing: 10/21/16 Negotiated Rates—Twin Eagle Resource Management, LLC (RTS) 7300-01 to be effective 11/1/2016.

Filed Date: 10/21/16.

Accession Number: 20161021-5066.

Comments Due: 5 p.m. ET 11/2/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-1301-001.

Applicants: Rockies Express Pipeline LLC.

Description: Tariff Amendment: Errata to Interim Fuel Filing RP16-1301 to be effective 11/1/2016.

Filed Date: 10/20/16.

Accession Number: 20161020-5116.

Comments Due: 5 p.m. ET 11/1/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 24, 2016.
Nathaniel J. Davis, Sr.,
Deputy Secretary.

[FR Doc. 2016-26226 Filed 10-28-16; 8:45 am]

BILLING CODE 6717-01-P